DEPARTMENT OF HEALTH AND HUMAN SERVICES

Food and Drug Administration

[Docket No. 2004D-0422]

Guidance for Industry: Animal Drug Sponsor Fees Under the Animal Drug User Fee Act; Availability

AGENCY: Food and Drug Administration, HHS.

ACTION: Notice.

SUMMARY: The Food and Drug Administration (FDA) is announcing the availability of a guidance for industry (#173) entitled “Guidance for Industry: Animal Drug Sponsor Fees Under the Animal Drug User Fee Act (ADUFA).” This guidance describes how FDA intends to implement the Federal Food, Drug, and Cosmetic Act (the act) as it relates to animal drug sponsor fees.

DATES: Comments on agency guidance documents are welcome at any time.

ADDRESSES: Submit written comments to the Division of Dockets Management (HFA-305), Food and Drug Administration, 5630 Fishers Lane, rm. 1061, Rockville, MD 20852. Submit electronic comments on the guidance via the Internet at http://www.fda.gov/dockets/ecomments. Comments should be identified with the full title of the guidance and the docket number found in brackets in the heading of this document. See the SUPPLEMENTARY INFORMATION section for electronic access to the guidance document.

Submit written requests for single copies of the guidance to the Communications Staff (HFV-12), Center for Veterinary Medicine, Food and Drug Administration, 7519 Standish Pl., Rockville, MD 20855. Send one self-addressed adhesive label to assist that office in processing your requests.

FOR FURTHER INFORMATION CONTACT: David Newkirk, Center for Veterinary Medicine (HFV-100), Food and Drug Administration, 7500 Standish Pl., Rockville, MD 20855, 301-827-6967, e-mail: dnewkirk@cvm.fda.gov.

SUPPLEMENTARY INFORMATION:

I. Background

FDA is announcing the availability of a guidance for industry (#173) entitled “Guidance for Industry: Animal Drug Sponsor Fees Under the Animal Drug User Fee Act.” ADUFA requires FDA to assess and collect user fees for certain applications, products, establishments, and sponsors. This guidance represents FDA's current thinking on how it intends to implement the animal drug sponsor fee provision of ADUFA.

In the Federal Register of September 28, 2004 (69 FR 57941), FDA published a notice of availability for a draft of the guidance, giving interested persons until October 28, 2004, to comment. FDA received one comment on the draft guidance. No substantive changes were made in finalizing this guidance document.

II. Paperwork Reduction Act of 1995

FDA concludes that this guidance contains no collections of information. Therefore, clearance by the Office of Management and Budget under the Paperwork Reduction Act of 1995 is not required.

III. Significance of Guidance

This level 1 guidance is being issued consistent with FDA's good guidance practices regulation (21 CFR 10.115). This guidance represents the agency's current thinking on the topic. It does not create or confer any rights for or on any person and does not operate to bind FDA or the public. An alternate method may be used as long as it satisfies the requirements of applicable statutes and regulations.

IV. Comments

As with all FDA's guidances, the public is encouraged to submit written or electronic comments with new data or other new information pertinent to this guidance. FDA periodically will review the comments in the docket and, where appropriate, will amend the guidance. The agency will notify the public of any substantive amendments through a document in the Federal Register.

Interested persons may submit to the Division of Dockets Management (see ADDRESSES) written or electronic comments on the guidance at any time. Submit a single copy of electronic comments or two paper copies of any mailed comments, except that individuals may submit one paper copy. Comments should be identified with the docket number found in brackets in the heading of this document. A copy of the document and received comments are available for public examination in the Division of Dockets Management between 9 a.m. and 4 p.m., Monday through Friday.

V. Electronic Access

Copies of the guidance document entitled “Guidance for Industry: Animal Drug Sponsor Fees Under the Animal Drug User Fee Act” may be obtained from the CVM home page (http://www.fda.gov/cvm) and from the Division of Dockets Management Web site (http://www.fda.gov/ohrms/dockets/default.htm).

Dated: January 28, 2005.
Jeffrey Shuren,
Assistant Commissioner for Policy.

[FR Doc. 05-2417 Filed 2-7-05; 8:45 am]

BILLING CODE 4160-01-S